NUCLEAR REGULATORY COMMISSION

[NRC-2012-0159]

Fuel Oil Systems for Emergency Power Supplies

AGENCY: Nuclear Regulatory Commission.

ACTION: Regulatory guide; issuance.

SUMMARY: The U.S. Nuclear Regulatory Commission (NRC) is issuing revision 2 of Regulatory Guide (RG) 1.137, “Fuel Oil Systems for Emergency Power Supplies.” Revision 2 of RG 1.137 endorses ANSI/ANS-59.51-1997, “Fuel Oil Systems for Safety-Related Emergency Diesel Generators,” (reaffirmed in October 2007) with the exceptions and clarification stated in the RG. ANSI/ANS-59.51-1997 describes methods that the NRC considers acceptable for use in complying with NRC regulations for assuring the quality of fuel oil for emergency diesel generators used in nuclear power plants.

ADDRESSES: Please refer to Docket ID NRC-2012-0159 when contacting the NRC about the availability of information regarding this document. You may access information related to this document, which the NRC possesses and is publicly available, using the following methods:

• Federal Rulemaking Web site: Go to http://www.regulations.gov and search for Docket ID NRC-2012-0159. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of Regulatory Guide 1.137, is available in ADAMS under Accession No. ML12300A122. The regulatory analysis may be found in ADAMS under Accession No. ML121090459.

• NRC's PDR: You may examine and purchase copies of public documents at the NRC's PDR, Room O1-F21, One White Flint North, 11555 Rockville Pike, Rockville, Maryland 20852.

Regulatory guides are not copyrighted, and NRC approval is not required to reproduce them.

FOR FURTHER TECHNICAL INFORMATION CONTACT: Mark Orr, Division of Engineering, Office of Nuclear Regulatory Research, U.S. Nuclear Regulatory Commission, Washington, DC 20555-0001; telephone: 301-251-7495; email: Mark.Orr@nrc.gov.

SUPPLEMENTARY INFORMATION:

I. Introduction

The NRC is issuing a revision to an existing guide in the NRC's “Regulatory Guide” series. This series was developed to describe and make available to the public information such as methods that are acceptable to the NRC staff for implementing specific parts of the NRC's regulations, techniques that the staff uses in evaluating specific problems or postulated accidents, and data that the staff needs in its review of applications for permits and licenses.

II. Further Information

Revision 2 of RG 1.137 endorses American National Standards Institute (ANSI), American Nuclear Society (ANS) (ANSI/ANS) Standard 59.51-1997, “Fuel Oil Systems for Safety-Related Emergency Diesel Generators,” (reaffirmed in October 2007), and American Society for Testing and Materials (ASTM) standard D975-13, “Standard Specification for Diesel Fuel Oils,” with the exceptions stated in the regulatory positions. Both ANSI/ANS-59.51-1997 and ASTM D975-13 describe methods the NRC considers acceptable for use in complying with NRC requirements for assuring the quality of fuel oil and fuel oil systems for emergency diesel generators used in nuclear power plants. The methods described in ANSI/ANS 59.51-1997 and ASTM D975-13 are consistent with NRC requirements derived from “General Design Criteria (GDC) 17, Electric Power Systems” in Appendix A to Part 50 of Title 10, of the Code of Federal Regulations (10 CFR), “Domestic Licensing of Production and Utilization Facilities,” and 10 CFR 50.55a.

The 1979 revision to RG 1.137 endorsed the guidance in ANSI Standard N195-1976, “Fuel Oil Systems for Standby Diesel-Generators.” The ANSI standard was revised in 1989 and reformatted and revised in 1997 as ANSI/ANS-59.51-1997 with no change to RG 1.137. Revision 2 of RG 1.137 endorses the most current version of the ANSI/ANS standard.

Revision 2 of RG 1.137 was issued with a temporary identification as Draft Regulatory Guide, DG-1282 on July 5, 2012 (77 FR 39745) for a 60-day public comment period. The public comment period was extended until September 28, 2012 (77 FR 48177). Public comments were received and addressed by the NRC staff. These comments and the NRC staff responses are available in ADAMS under Accession No. ML12300A121.

The NRC prepared a regulatory analysis for the development of DG-1285 and it is available in ADAMS under Accession No. ML121090459.

Revision 2 of RG 1.137 supersedes Revision 1 of RG 1.137, and represents the NRC staff's guidance for future users and applications. Earlier versions of this regulatory guide, however, continue to be acceptable for those licensees whose licensing basis includes earlier versions of this regulatory guide, absent a licensee-initiated change to its licensing basis. Additional information on the staff's use of this revised regulatory guide with respect to both current and future users and applications is set forth in the “Implementation” section of the revised regulatory guide.

III. Backfitting and Issue Finality

Issuance of this final regulatory guide does not constitute backfitting as defined in 10 CFR 50.109 (the Backfit Rule) and is not otherwise inconsistent with the issue finality provisions in 10 CFR Part 52. As discussed in the “Implementation” section of this regulatory guide, the NRC has no current intention to impose this regulatory guide on holders of current operating licenses or combined licenses.

This regulatory guide may be applied to applications for operating licenses and combined licenses docketed by the NRC as of the date of issuance of the final regulatory guide, as well as future applications for operating licenses and combined licenses submitted after the issuance of the regulatory guide. Such action does not constitute backfitting as defined in 10 CFR 50.109(a)(1) or is otherwise inconsistent with the applicable issue finality provision in 10 CFR Part 52, inasmuch as such applicants or potential applicants are not within the scope of entities protected by the Backfit Rule or the relevant issue finality provisions in Part 52.

Congressional Review Act

This regulatory guide is a rule as designated in the Congressional Review Act (5 U.S.C. 801-808). However, the Office of Management and Budget (OMB) has not found it to be a major rule as designated in the Congressional Review Act.

Dated at Rockville, Maryland, this 7th day of June, 2013.
For the Nuclear Regulatory Commission.
Thomas H. Boyce,
Chief, Regulatory Guide Development Branch, Division of Engineering, Office of Nuclear Regulatory Research.

[FR Doc. 2013-14309 Filed 6-14-13; 8:45 am]

BILLING CODE 7590-01-P